DEPARTMENT OF HOUSING AND URBAN DEVELOPMENT

[Docket No. FR-4950-FA-08]

Announcement of Funding Awards for Fiscal Year 2005; Community Development Work Study Program

AGENCY: Office of the Assistant Secretary for Policy Development and Research, HUD.

ACTION: Announcement of funding awards.

SUMMARY: In accordance with Section 102(a)(4)(C) of the Department of Housing and Urban Development Reform Act of 1989, this document notifies the public of funding awards for the Fiscal Year 2005 Community Development Work Study Program (CDWSP). The purpose of this document is to announce the names and addresses of the award winners and the amount of the awards to be used to attract economically disadvantaged and minority students to careers in community and economic development, community planning and community management, and to provide a cadre of well-qualified professionals to plan, implement, and administer local community development programs.

FOR FURTHER INFORMATION CONTACT: Susan Brunson, Office of University Partnerships, U.S. Department of Housing and Urban Development, Room 8106, 451 Seventh Street, SW., Washington, DC 20410, telephone (202) 708-3061, ext. 3852. To provide service for persons who are hearing- or speech-impaired, this number may be reached via TTY by dialing the Federal Information Relay Service on (800) 877-8399, or (202) 708-1455. (Telephone numbers, other than the two “800” numbers, are not toll free.)

SUPPLEMENTARY INFORMATION: The CDWSP is administered by the Office of University Partnerships under the Assistant Secretary for Policy Development and Research. The Office of University Partnerships administers HUD's ongoing grant programs to institutions of higher education. These colleges and universities assist in bringing their traditional missions of teaching, research, service, and outreach to bear on the pressing local problems in their communities.

The CDWSP was enacted in the Housing and Community Development Act of 1988. (Earlier versions of the program were funded by the Community Development Block Grant Technical Assistance Program from 1982 through 1987 and the Comprehensive Planning Assistance Program from 1969 through 1981.) Eligible applicants include institutions of higher education having qualifying academic degrees, and area-wide planning organizations and states that apply on behalf of such institutions. The CDWSP funds graduate programs only. Each participating institution of higher education is funded for a minimum of three and maximum of five students under the CDWSP. The CDWSP provides each participating student up to $9,000 per year for a work stipend (for internship-type work in community building) and $5,000 per year for tuition and additional support (for books and travel related to the academic program). Additionally, the CDWSP provides the participating institution of higher education with an administrative allowance of $1,000 per student per year.

The Catalog of Federal Domestic Assistance number for this program is 14.512.

On March 21, 2005, (70 FR 13773), HUD published a Notice of Funding Availability (NOFA) announcing the availability of $2.8 million in FY 2005 funds and $391,144 in previously unexpended funds for the CDWSP. The Department reviewed, evaluated and scored the applications received based on the criteria in the NOFA. As a result, HUD has funded the applications announced below and, in accordance with Section 102(a)(4)(C) of the Department of Housing and Urban Development Reform Act of 1989 (103 Stat. 1987, U.S.C. 3545), the Department is publishing details concerning the recipients of funding awards as follows (More information about winners can be found at http://www.oup.org.):

List of Awardees for Grant Assistance Under the FY 2005 Community Development Work Study Program Funding Competition, by Name, Address, Phone Number, Grant Amount and Number of Students Funded

Region I

1. University of Massachusetts, Dr. John Hird, University of Massachusetts, Terrace Research Administration Building, 70 Butterfield, Amherst, MA 01003. Grant: $90,000 to fund three students.

2. Southern New Hampshire University, Ms. Cathy LaForge, Southern New Hampshire University, 2500 North River Road, Manchester, NH 03106. Grant: $90,000 to fund three students.

3. University of Massachusetts-Lowell, Ms. Linda Concino, University of Massachusetts, 883 Broadway, 2nd Floor, Lowell, MA 01854. Grant: $90,000 to fund three students.

Region II

4. Research Foundation of CUNY-Hunter College, Dr. Terry Mizrahi, Research Foundation of CUNY-Hunter College, 695 Park Avenue, New York, NY 10021. Grant: $90,000 to fund three students.

5. The Research Foundation of the State University of New York, Mr. Jeffery Schieder, The Research Foundation of the State University of New York, The UB Commons, Suite 211, 520 Lee Entrance, Amherst, NY 14228. Grant: $90,000 to fund three students.

6. Rutgers, State University of New Jersey, Mrs. Simona Turcu, Rutgers, State University of New Jersey, Rutgers Plaza, Office of Research and Sponsored Programs, New Brunswick, NJ 08901. Grant: $90,000 to fund three students.

Region III

7. Virginia Polytechnic and State University, Ms. Elaine Broadstone, Virginia Polytechnic and State University, 460 Turner Street, Suite 306, Blacksburg, VA 24060. Grant: $90,000 to fund three students.

8. University of Pittsburgh, Dr. David Miller, University of Pittsburgh, Office of Research, 350 Thackeray Hall, Pittsburgh, PA 15260. Grant: $90,000 to fund three students.

9. Howard University, Mr. Wayne Patterson, Howard University, 2400 6th Street, NW., Washington, DC 20059. Grant: $90,000 to fund three students.

10. West Virginia University Research Corporation, Dr. Christopher Plein, West Virginia University Research Corporation, PO Box 6845, 866 Chestnut Ridge Road, Morgantown, WV 26506. Grant: $90,000 to fund three students.

11. Trustees of the University of Pennsylvania, Dr. Eugenie Birch, Trustees of the University of Pennsylvania, 3451 Walnut Street, P 221 Franklin Building, Philadelphia, PA 19104. Grant: $90,000 to fund three students.

Region IV

12. University of Tennessee-Chattanooga, Dr. Deborah Arfken, University of Tennessee-Chattanooga, 615 McCallie Avenue, Dept. #4905, Chattanooga, TN 37403. Grant: $90,000 to fund three students.

13. North Carolina Central University, Mr. Tyrone Eaton, North Carolina Central University, 1801 Fayetteville Street, Durham, NC 27707. Grant: $90,000 to fund three students.

14. University of Alabama at Birmingham, Dr. Akhlaque Hague, University of Alabama at Birmingham, 1530 3rd Avenue, Birmingham, AL 35924. Grant: $90,000 to fund three students.

15. University of Memphis, Ms. Helen Awsumb, University of Memphis, Administration Building, Suite 315, Memphis, TN 38152. Grant: $90,000 to fund three students.

16. Florida State University, Dr. Charles Connerly, Florida State University, 97 South Woodward Avenue, Tallahassee, FL 32306. Grant: $90,000 to fund three students.

17. University of Florida, Dr. Joseli Macedo, University of Florida, PO Box 115706, Gainesville, FL 32611. Grant: $90,000 to fund three students.

Region V

18. Minnesota State University-Mankota, Dr. Anthony Filipovitch, Minnesota State University-Mankota, 106 Morris Hall, Mankota, MN 56001. Grant: $90,000 to fund three students.

19. Ohio State University Research Foundation, Dr. Hazel Marrow-Jones, Ohio State University Research Foundation, 1960 Kenny Road, Columbus, OH 43210. Grant: $90,000 to fund three students.

20. Indiana University South Bend, Ms. Cindy Curvin, Indiana University South Bend, PO Box 1847, Bloomington, IN 47402. Grant: $90,000 to fund three students.

21. Michigan State University, Dr. Herb Norman, Michigan State University, 301 Administration, East Lansing, MI 48824. Grant: $90,000 to fund three students.

22. The Regents of the University of Michigan, Ms. Gayle Jackson, The Regents of the University of Michigan, 3003 S. State Street, Wolverine Tower Building, Room 1044, Ann Arbor, MI 48109. Grant: $90,000 to fund three students.

23. University of Illinois-Chicago, Dr. Curtis Winkle, University of Illinois-Chicago, MB 502, M/C 551, 809 S. Marshfield Avenue, Chicago, IL 60612. Grant: $90,000 to fund three students.

24. Cleveland State University, Dr. Wendy Kellogg, Cleveland State University, 2121 Euclid Avenue, Cleveland, OH 44115. Grant: $90,000 to fund three students.

25. University of Minnesota, Ms. Darville, University of Minnesota, 200 Oak Street, SE, 450 McNamara Alumni Center, Minneapolis, MN 55455. Grant: $90,000 to fund three students.

26. University of Wisconsin-Milwaukee, Mr. Stephen Percy, University of Wisconsin-Milwaukee, PO Box 340, Milwaukee, WI 53201. Grant: $90,000 to fund three students.

Region VI

27. North Central Texas Council of Government, Ms. Lucille Johnson, North Central Texas Council of Government, PO Box 5888, Arlington, TX 76005. Grant: $270,000 to fund three students at three institutions.

Region VII

28. University of Nebraska at Omaha, Dr. Russell Smith, University of Nebraska at Omaha, 6001 Dodge Street, Omaha, NE 68182. Grant: $90,000 to fund three students.

29. University of Kansas Center for Research, Mr. John Nalbandian, University of Kansas Center for Research, 2385 Irving Hill, Lawrence, KS 66045. Grant: $90,000 to fund three students.

30. Kansas State University, Mr. Larry L. Lawhon, Kansas State University, 2 Fairchild Hall, Manhattan, KS 66506. Grant: $90,000 to fund three students.

31. Iowa State University, Mr. Thane Peterson, Iowa State University, 1138 Pearson, Ames, IA 50011. Grant: $90,000 to fund three students.

Region IX

32. University of Southern California, Mr. Leonard Mitchell, University of Southern California, University Park Campus, Los Angeles, CA 90089. Grant: $90,000 to fund three students.

33. California Polytechnic State University, Ms. Patti Wilhelm, California Polytechnic State University, 1 Grand Avenue, San Luis Obispo, CA 93407. Grant: $90,000 to fund three students.

34. The Regents of the University of California, Ms. Susan Hedley, The Regents of the University of California, 336 Sproull Hall, MC 5940, Berkeley, CA 94720. Grant: $90,000 to fund three students.

Region X

35. University of Oregon, Ms. Megan Smith, University of Oregon, 5219 University of Oregon, Eugene, OR 97403. Grant: $90,000 to fund three students.

36. Eastern Washington University, Dr. Fred Hurand, Eastern Washington University, 210 Showalter Hall, Cheney, WA 99004. Grant: $90,000 to fund three students.

Dated: May 26, 2006.
Darlene F. Williams,
Assistant Secretary.

[FR Doc. E6-8639 Filed 6-2-06; 8:45 am]

BILLING CODE 4210-67-P